GENERAL SERVICES ADMINISTRATION

[OMB Control No. 3090-0235]

Submission for OMB Review; Comment Request Entitled Price Reductions Clause

AGENCY: Office of Acquisition Policy, GSA.

ACTION: Notice of a request for an extension to an existing OMB clearance 3090-0235, Price Reductions Clause.

SUMMARY: Under the provisions of the Paperwork Reduction Act of 1995 (44 U.S.C. Chapter 35), the General Services Administration, Office of Acquisition Policy has submitted to the Office of Management and Budget (OMB) a request to review and approve an extension of a currently approved information collection requirement concerning Price Reductions Clause. A request for public comments was published at 66 FR 54772, October 20, 2001. No comments were received.

Public comments are particularly invited on: Whether the information collection generated by the GSAR Clause, Price Reductions is necessary to determine an offeror's price is fair and reasonable; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comment Due Date: March 15, 2002.

ADDRESSES: Comments regarding this collection of information should be submitted to Jeanette Thornton, GSA Desk Officer, OMB, Room 10236, NEOB, Washington, DC 20503, and a copy to Stephanie Morris, General Services Administration, Acquisition Policy Division, 1800 F Street, NW., Room 4035, Washington, DC 20405.

FOR FURTHER INFORMATION CONTACT: Beverly Cromer, Office of GSA Acquisition Policy (202) 208-6750.

SUPPLEMENTARY INFORMATION:

A. Purpose

The GSA is requesting the Office of Management and Budget (OMB) to review and approve information collection, 3090-0235, Price Reductions Clause. The Price Reductions Clause used in multiple award schedule contracts ensures that the Government maintains its relationship with the contractor's customer or category of customers, upon which the contract is predicated.

B. Annual Reporting Burden

Number of Respondents: 9,547.

Total Annual Responses: 19,094.

Percentage of these responses: 100 collected electronically.

Average hours per response: 7.5 hours.

Total Burden Hours: 143,205.

Obtaining Copies of Proposals: Requester may obtain a copy of the proposal from the General Services Administration, Regulatory Secretariat (MVP), 1800 F Street, NW., Room 4035, Washington, DC 20405, telephone (202) 501-4744. Please cite OMB Control No. 3090-0235, Price Reductions Clause.

Dated: January 29, 2002.
Al Matera,
Director, Acquisition Policy Division

[FR Doc. 02-3533 Filed 2-12-02; 8:45 am]

BILLING CODE 6820-61-M